DEPARTMENT OF JUSTICE

Antitrust Division

Notice Pursuant to The National Cooperative Research and Production Act of 1993—Maritime Sustainment Technology and Innovation Consortium

Notice is hereby given that, on July 7, 2023, pursuant to section 6(a) of the National Cooperative Research and Production Act of 1993, 15 U.S.C. 4301 et seq. (“the Act”), the Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances. Specifically, Action Engineering LLC, Golden, CO; Baker Manufacturing, Inc., Tacoma, WA; Beacon Industries, Inc., Newington, CT; Bogue Systems, Inc., Paterson, NJ; Carver Pump Company, Muscatine, IA; HERMTAC, Dallas, TX; Jered LLC, Brunswick, GA; Johnson Controls Navy Systems LLC, York, PA; L3Harris Technologies, Inc. Maritime Power and Energy Solutions, Anaheim, CA; Marotta Controls, Montville, NJ; NetImpact Strategies, Falls Church, VA; Quality Aero, Inc., Columbus, OH; Solvus Global LLC, Worcester, MA; Systems Innovation Engineering LLC, Mullica Hills, NJ; Thunderbolt Software LLC, Tuckerton, NJ; TRABUS dba Trabus Technologies, San Diego, CA; and United States Technologies, Inc., Fair Lawn, NJ, have been added as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on April 6, 2023. A notice was published in the Federal Register pursuant to section 6(b) of the Act on June 12, 2023 (88 FR 38097).

Suzanne Morris,
Deputy Director Civil Enforcement Operations, Antitrust Division.

[FR Doc. 2023-20768 Filed 9-25-23; 8:45 am]

BILLING CODE P